DEPARTMENT OF THE INTERIOR

Bureau of Land Management

[OR-130-1020-PH; GP5-0139]

Notice of Public Meeting, Eastern Washington Resource Advisory Council Meeting

AGENCY: Bureau of Land Management, U.S. Department of the Interior.

ACTION: Notice of public meeting.

SUMMARY: In accordance with the Federal Land Policy and Management Act and the Federal Advisory Committee Act of 1972, the U.S. Department of the Interior, Bureau of Land Management Eastern Washington Resource Advisory Council will meet as indicated below.

DATES: The Eastern Washington Resource Advisory Council will meet Friday, June 17, 2005 at the Spokane District Office, Bureau of Land Management, 1103 North Fancher Road, Spokane, Washington, 99212-1275.

SUPPLEMENTARY INFORMATION: The meeting will start at 9 a.m. and adjourn at 4 p.m. Topics on the meeting agenda include: Juniper Dunes access, cooperative agency relationships, and Columbia Basin Shrub-Steppe land exchange. The meeting is open to the public, with an opportunity for public comment between 11 a.m. and 12 noon. Information to be distributed to Council members for their review should be submitted, in writing, to the Spokane District Office prior to June 17.

FOR FURTHER INFORMATION CONTACT: Sandra Gourdin or Kathy Helm, Bureau of Land Management, Spokane District Office, 1103 N. Fancher Road, Spokane, Washington, 99212, or call (509) 536-1200.

Dated May 27, 2005.
Joseph K. Buesing,
District Manager.

[FR Doc. 05-11043 Filed 6-1-05; 8:45 am]

BILLING CODE 4310-33-U